DEPARTMENT OF TRANSPORTATION

Federal Aviation Administration

14 CFR Part 39

[Docket No. FAA-2009-0615; Directorate Identifier 2009-NM-043-AD; Amendment 39-16206; AD 2010-04-13]

RIN 2120-AA64

Airworthiness Directives; Airbus Model A310-203, -221, -222 Airplanes; and Model A300 F4-605R and -622R Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

An A300-600 operator reported two events of IPECO pilot seat moved in the aft position, one during take-off roll and one during climb out. The investigation of these events showed that a broken/missing spring contributed to the seat not being correctly locked.

An unwanted movement of pilot or co-pilot seat in the aft direction is considered as potentially dangerous, especially during the take-off phase when the speed of the aeroplane is greater than 100 knots and until landing gear retraction.

* * * * *

The unsafe condition is potential loss of control of the airplane during take-off and landing. We are issuing this AD to require actions to correct the unsafe condition on these products.

DATES: This AD becomes effective March 30, 2010.

The Director of the Federal Register approved the incorporation by reference of certain publications listed in this AD as of March 30, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on July 16, 2009 (74 FR 34509). That NPRM proposed to correct an unsafe condition for the specified products. The MCAI states:

An A300-600 operator reported two events of IPECO pilot seat moved in the aft position, one during take-off roll and one during climb out. The investigation of these events showed that a broken/missing spring contributed to the seat not being correctly locked.

An unwanted movement of pilot or co-pilot seat in the aft direction is considered as potentially dangerous, especially during the take-off phase when the speed of the aeroplane is greater than 100 knots and until landing gear retraction.

To prevent further incidents of inadvertent flight crew seat aft movement, this AD requires repetitive inspections of the affected seat springs and replacement of missing or broken parts. In addition, this AD requires replacement of the affected seats with modified P/N 3A218-000X-01-2 seats. Installation of both pilot and co-pilot seats P/N 3A218-000X-01-2 on an aeroplane constitutes terminating action for the repetitive inspection requirements of this AD for that aeroplane.

The unsafe condition is potential loss of control of the airplane during take-off and landing. You may obtain further information by examining the MCAI in the AD docket.

Comments

We gave the public the opportunity to participate in developing this AD. We considered the comments received.

Support for the AD

The Air Line Pilots Association, International (ALPA), supports the NPRM.

Request for Extension of Proposed Compliance Time for Modification

FedEx and UPS request that we extend the compliance time for the modification specified in paragraph (f)(4) of the NPRM from 6 months to 30 months. The commenters explain that 6 months does not provide enough time for large operators with many aircraft to receive the parts kits. UPS explains further that their proposed compliance time will enable adequate industry support of the modification and at the same time enable operators to utilize regularly scheduled maintenance opportunities.

We disagree with extending the proposed compliance time for the modification. While we recognize that the initial lead time for parts kit delivery was excessive, IPECO now has a large stock of complete parts kits ready to be delivered. No further issue regarding availability of parts kits is foreseen. However, if parts kits availability becomes a problem in the future, under the provisions of paragraph (g)(1) of this AD, we will consider requests for approval of an extension of the compliance time if data are submitted to substantiate that the extension would provide an acceptable level of safety, provided that the operators are performing the repetitive inspections specified in paragraph (f) of this AD. We have made no change to the AD in this regard.

Request for Permission To Replace Old Parts With New Parts

FedEx requests that we revise the NPRM to allow for replacing the existing locking springs with new springs of the same design as an interim action to delay installation of the modification. FedEx explains that all of its broken locking springs were found on seats that had been in service at least 4 years since there was a record of the springs being changed. FedEx states that the springs that were returned appeared to be corroded, which indicates that the failure of the springs was due to corrosion instead of fatigue.

We do not agree with the request to revise this AD to allow for replacing the existing locking springs with new springs of the same design as an interim action to delay installation of the modification. While we recognize FedEx's assertion that failure of the springs was due to corrosion instead of fatigue, Airbus did not identify which failure mode was actually involved, as fatigue cracks could induce spring protection alteration and then corrosion. Further, it is possible that corrosion could actually lead to the weakening of the spring, where the fatigue effort would deteriorate the spring. Regardless of the findings by FedEx, parts kits are now available for the replacement of the locking springs, so there is no need to delay installation of the modification. However, if operators experience a delay in receiving kits, they may request approval of an AMOC in accordance with the procedures in paragraph (g)(1) of this AD. We have made no change to the AD in this regard.

Request To Use an Alternate Inspection Method

FedEx requests that the NPRM be revised to allow operators to use other methods to perform the detailed inspection required in paragraph (f)(1) of this AD. FedEx explains that removing the seat bottom cushion and trying to view the springs through lightening holes in the seat bottom is difficult. FedEx explains further that maintenance personnel have used a mirror to perform the inspection or inspected the seat springs by looking up directly from underneath the seat. FedEx indicates that the springs are exposed on the bottom side of the seats and can be more easily viewed for defects by using this method.

We agree that other methods of performing the detailed inspection required in paragraph (f)(1) of this AD might exist for the reasons stated in the previous paragraph. But, we do not agree to change this AD in this regard because insufficient data have been submitted to substantiate that the alternative inspection method would provide an acceptable level of safety. However, under the provisions of paragraph (g)(1) of this AD, we will consider requests for approval of an alternative inspection method if sufficient data are submitted to substantiate that the alternative inspection method would provide an acceptable level of safety.

Request for Clarification

UPS requests that we change the word “modified” in paragraph (f)(3) of the NPRM to clarify that there is no modification required by that paragraph. UPS explains that the service information listed in paragraph (f)(3) of the NPRM requires inspection and replacement, but not modification.

We agree to clarify paragraph (f)(3) of this final rule for the reason stated by UPS. We have changed “modified” to “replaced” in paragraph (f)(3) of this AD.

Explanation of Additional Change

We have specified the issue numbers of each Airbus operations engineering bulletin throughout this final rule to adhere to requirements of the Office of the Federal Register's (OFR), for material incorporated by reference (IBR).

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Explanation of Change to Costs of Compliance

Since issuance of the NPRM, we have increased the labor rate used in the Costs of Compliance from $80 per work-hour to $85 per work-hour. The Costs of Compliance information, below, reflects this increase in the specified hourly labor rate.

Costs of Compliance

We estimate that this AD will affect 132 products of U.S. registry. We also estimate that it will take about 11 work-hours per product to comply with the basic requirements of this AD. The average labor rate is $85 per work-hour. Required parts will cost about $1,214 per product. Where the service information lists required parts costs that are covered under warranty, we have assumed that there will be no charge for these parts. As we do not control warranty coverage for affected parties, some parties may incur costs higher than estimated here. Based on these figures, we estimate the cost of this AD to the U.S. operators to be $283,668, or $2,149 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-04-13 Airbus: Amendment 39-16206. Docket No. FAA-2009-0615; Directorate Identifier 2009-NM-043-AD.

Effective Date

(a) This airworthiness directive (AD) becomes effective March 30, 2010.

Affected ADs

(b) None.

Applicability

(c) This AD applies to the airplanes identified in paragraphs (c)(1) and (c)(2) of the AD, certificated in any category, having IPECO part number (P/N) 3A218-000X-01-1 pilot or co-pilot mechanical seats installed.

(1) Airbus Model A310-203, A310-221, and A310-222 airplanes, all serial numbers.

(2) Airbus Model A300 F4-605R and A300 F4-622R airplanes, all serial numbers.

Subject

(d) Air Transport Association (ATA) of America Code 25: Equipment/Furnishings.

Reason

(e) The mandatory continuing airworthiness information (MCAI) states:

An A300-600 operator reported two events of IPECO pilot seat moved in the aft position, one during take-off roll and one during climb out. The investigation of these events showed that a broken/missing spring contributed to the seat not being correctly locked.

An unwanted movement of pilot or co-pilot seat in the aft direction is considered as potentially dangerous, especially during the take-off phase when the speed of the aeroplane is greater than 100 knots and until landing gear retraction.

To prevent further incidents of inadvertent flight crew seat aft movement, this AD requires repetitive inspections of the affected seat springs and replacement of missing or broken parts. In addition, this AD requires replacement of the affected seats with modified P/N 3A218-000X-01-2 seats. Installation of both pilot and co-pilot seats P/N 3A218-000X-01-2 on an aeroplane constitutes terminating action for the repetitive inspection requirements of this AD for that aeroplane.

The unsafe condition is potential loss of control of the airplane during take-off and landing.

Actions and Compliance

(f) Unless already done, do the following actions.

(1) Within 90 days after the effective date of this AD, and thereafter at intervals not to exceed 30 days, do a detailed visual inspection of the two springs of the pilot seat and co-pilot seat locking device, in accordance with Airbus Mandatory Service Bulletin A310-25A2199 or A300-25A6210, both dated July 9, 2008, as applicable.

(i) If only one spring is missing or found damaged during any inspection required by paragraph (f)(1) of this AD, within 10 days after the inspection or before further flight, whichever occurs later, replace the spring with a serviceable part, in accordance with Airbus Mandatory Service Bulletin A310-25A2199 or A300-25A6210, both dated July 9, 2008, as applicable. Before an airplane may be dispatched with one spring missing or damaged, the instructions contained in Airbus A310 Operations Engineering Bulletin 160, Issue 2, dated October 2008; or Airbus A300-600 Operations Engineering Bulletin 121, Issue 1, dated May 2008; as applicable; must be accomplished by the flightcrew.

(ii) If two springs are missing or found damaged during any inspection required by paragraph (f)(1) of this AD, before further flight, replace the springs in accordance with Airbus Mandatory Service Bulletin A310-25A2199 or A300-25A6210, both dated July 9, 2008, as applicable.

(2) Replacing parts in accordance with Airbus Mandatory Service Bulletin A310-25A2199 or A300-25A6210, both dated July 9, 2008, as applicable, is not a terminating action for the repetitive inspections required in paragraph (f)(1) of this AD.

(3) As of the effective date of this AD, do not install an IPECO pilot or co-pilot mechanical seat P/N 3A218-000X-01-1 on any airplane, unless the seat has been inspected and replaced as applicable, in accordance with Airbus Mandatory Service Bulletin A310-25A2199 or A300-25A6210, both dated July 9, 2008, as applicable.

(4) Within 6 months after the effective date of this AD, modify the airplane by replacing the pilot and co-pilot mechanical seats P/N 3A218-000X-01-1 with P/N 3A218-000X-01-2 seats, in accordance with Airbus Mandatory Service Bulletin A310-25-2202 or A300-25-6214, both dated February 3, 2009, as applicable.

(5) Installing both pilot and co-pilot seats P/N 3A218-000X-01-2 in accordance with Airbus Mandatory Service Bulletin A310-25-2202 or A300-25-6214, both dated February 3, 2009, as applicable, on any airplane is a terminating action for the repetitive inspections required by paragraph (f)(1) of this AD for that airplane.

(6) As of 6 months after the effective date of this AD, do not install an IPECO pilot or co-pilot mechanical seat P/N 3A218-000X-01-1 on any airplane.

(7) Although Airbus Mandatory Service Bulletins A310-25A2199 and A300-25A6210, both dated July 9, 2008, specify to submit certain information to the manufacturer, this AD does not include that requirement.

FAA AD Differences

Note 1: This AD differs from the MCAI and/or service information as follows: Although the MCAI or service information tells you to submit information to Airbus, paragraph (f)(7) of this AD specifies that such submittal is not required.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(h) Refer to MCAI European Aviation Safety Agency Airworthiness Directive 2009-0045, dated February 27, 2009, and the service information listed in Table 1 of this AD, for related information.

Table 1—Related Service Information
Airbus Service Information | Issue/revision | Date
Airbus A300-600 Operations Engineering Bulletin 121 | 1 | May 2008.
Airbus A310 Operations Engineering Bulletin 160 | 2 | October 2008.
Airbus Mandatory Service Bulletin A300-25-6214 | Original | February 3, 2009.
Airbus Mandatory Service Bulletin A300-25A6210 | Original | July 9, 2008.
Airbus Mandatory Service Bulletin A310-25-2202 | Original | February 3, 2009.
Airbus Mandatory Service Bulletin A310-25A2199 | Original | July 9, 2008.

Material Incorporated by Reference

(i) You must use the service information contained in Table 2 of this AD to do the actions required by this AD, unless the AD specifies otherwise.

Table 2—Material Incorporated by Reference
Airbus Service Information | Issue/revision | Date
Airbus A300-600 Operations Engineering Bulletin 121 | 1 | May 2008.
Airbus A310 Operations Engineering Bulletin 160 | 2 | October 2008.
Airbus Mandatory Service Bulletin A300-25-6214 | Original | February 3, 2009.
Airbus Mandatory Service Bulletin A300-25A6210 excluding Appendix 1, and including Appendices 2 and 3 | Original | July 9, 2008.
Airbus Mandatory Service Bulletin A310-25-2202 | Original | February 3, 2009.
Airbus Mandatory Service Bulletin A310-25A2199 excluding Appendix 1, and including Appendices 2 and 3 | Original | July 9, 2008.

(1) The Director of the Federal Register approved the incorporation by reference of this service information under 5 U.S.C. 552(a) and 1 CFR part 51.

(2) For service information identified in this AD, contact Airbus SAS-EAW (Airworthiness Office), 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on February 11, 2010.
Ali Bahrami,
Manager, Transport Airplane Directorate, Aircraft Certification Service.

[FR Doc. 2010-3222 Filed 2-22-10; 8:45 am]

BILLING CODE 4910-13-P